FEDERAL PERMITTING IMPROVEMENT STEERING COUNCIL

40 CFR Part 1900

Unified Agenda of Federal Regulatory and Deregulatory Actions

AGENCY: Federal Permitting Improvement Steering Council.

ACTION: Semiannual regulatory agenda.

SUMMARY: This agenda contains the proposed regulatory actions that the Federal Permitting Improvement Steering Council (Permitting Council) plans to undertake in 12 months following the General Service Administration's Fall 2020 edition of its semiannual regulatory agenda, which included the Permitting Council's previous regulatory agenda. The Permitting Council developed this agenda consistent with the Executive Order 12866 “Regulatory Planning and Review,” and Executive Order 13563 “Improving Regulation and Regulatory Review.”

FOR FURTHER INFORMATION CONTACT: John Cossa, General Counsel, Federal Permitting Improvement Steering Council, Office of the Executive Director, 1800 G Street NW, Suite 2400, Washington, DC 20006, (202) 607-3498, john.cossa@fpisc.gov.

SUPPLEMENTARY INFORMATION: Established pursuant to Title 41 of the Fixing America's Surface Transportation Act (FAST-41), 42 U.S.C. 4370m et seq., the Permitting Council is comprised of the Permitting Council Executive Director, the designees of 13 Federal agency councilmembers (including designees of the Secretaries of Agriculture, Army, Commerce, the Interior, Energy, Transportation, Defense, and Homeland Security, Administrators of the Environmental Protection Agency and the Department of Housing and Urban Development, and Chairmen of the Federal Energy Regulatory Commission, Nuclear Regulatory Commission, and the Advisory Council on Historic Preservation), and additional council members, the Chair of CEQ and the Director of OMB. The Permitting Council facilitates coordinated and timely Federal environmental review and permitting for FAST-41 “covered” infrastructure projects. Certain actions of the Permitting Council may affect the rights of the public or the regulated community, and accordingly warrant informal rulemaking pursuant to section 553 of the Administrative Procedure Act, 5 U.S.C. 553.

The Permitting Council's complete Unified Agenda will be available online at www.reginfo.gov and www.regulations.gov in a format that offers users an enhanced ability to obtain information from the Unified Agenda database. Publication in the Federal Register is mandated for the regulatory flexibility agendas required by the Regulatory Flexibility Act (RFA), 5 U.S.C. 602. Printing of the semiannual regulatory agenda entries is limited to fields that contain information required by the RFA's Unified Agenda requirements.

Dated: March 22, 2021.
Karen Hanley,
Acting Executive Director.

Federal Permitting Improvement Steering Council—Completed Actions
Sequence No. | Title | Regulation Identifier No.
390 | FPISC Case 2018-001; Fees for Governance, Oversight, and Processing of Environmental Reviews and Authorizations | 3121-AA00
391 | FPISC Case 2020-001, Adding Mining as a Sector of Projects Eligible for Coverage Under Title 41 of the Fixing America's Surface Transportation Act (FAST-41) | 3121-AA01

FEDERAL PERMITTING IMPROVEMENT STEERING COUNCIL (FPISC)

Completed Actions

390. FPISC Case 2018-001; Fees for Governance, Oversight, and Processing of Environmental Reviews and Authorizations

Legal Authority: 42 U.S.C. 4370m-8

Abstract: The Permitting Council is withdrawing its proposal (83 FR 44846 (Sep. 4, 2018)) to establish an initiation fee for project sponsors to reimburse the Permitting Council for reasonable costs associated with implementing and managing certain aspects of the program established under Title 41 of the Fixing America's Surface Transportation Act (FAST41). The Permitting Council will continue to assess the relative merits of collecting fees from project sponsors and various fee structures.

Timetable:

Action | Date | FR Cite
NPRM | 09/04/18 | 83 FR 44846
NPRM Comment Period End | 11/05/18
Withdrawn | 05/30/21

Regulatory Flexibility Analysis Required: Yes.

Agency Contact: Amber Levofsky, Executive Operations Manager, Federal Permitting Improvement Steering Council, 1800 G Street NW, Suite 2400, Washington, DC 20006, Phone: 202 412-2064, Email: amber.levofsky@fpisc.gov.

RIN: 3121-AA00

391. FPISC Case 2020-001, Adding Mining as a Sector of Projects Eligible for Coverage Under Title 41 of the Fixing America's Surface Transportation Act (FAST-41)

Legal Authority: 42 U.S.C. 4370m(6)(A)

Abstract: Title 41 of the Fixing America's Surface Transportation Act (FAST-41), 42 U.S.C. 4370m et seq., established the Federal Permitting Improvement Council (Permitting Council), which is comprised of an Office of the Executive Director, 13 Federal Agency Council members, and additional Council members, the Council on Environmental Quality, and Office of Management and Budget. The Permitting Council is charged with improving the timeliness, predictability, and transparency of the federal environmental review and authorization process for “covered” infrastructure projects across a statutorily-identified range of industry sectors, including renewable and conventional energy production, electricity transmission, surface transportation, aviation, ports and waterways, water resource projects, broadband, pipelines, manufacturing, and carbon capture. FAST-41 authorizes the Permitting Council, by majority vote of the Council members, to add classes of projects to those eligible for FAST-41 coverage. 42 U.S.C. 4370m(6)(A). Pursuant to that authority, and consistent with Executive Orders 13807 and 13817, the Permitting Council is proposing to include mining as a sector of projects eligible for coverage under FAST-41. Inclusion of mining on the covered sector list does not guarantee that any particular mining project will be covered under FAST-41 or receive the benefits of enhanced coordination under the statute. A project sponsor seeking the benefits of FAST-41 must apply to the Permitting Council for project coverage.

Timetable:

Action | Date | FR Cite
NPRM | 11/27/20 | 85 FR 75998
NPRM Comment Period End | 12/28/20
Final Rule | 01/08/21 | 86 FR 1281
Final Rule Effective | 01/08/21

Regulatory Flexibility Analysis Required: Yes.

Agency Contact: John Cossa, General Counsel, Office of the Executive Director, Federal Permitting Improvement Steering Council, 1800 G Street NW, Suite 2400, Washington, DC 20006, Phone: 202 255-6936, Email: john.cossa@fpisc.gov.

RIN: 3121-AA01

[FR Doc. 2021-14890 Filed 7-29-21; 8:45 am]

BILLING CODE 6820-PL-P